DEPARTMENT OF THE INTERIOR

Bureau of Land Management

[LLORB050 L71220000.DU0000.241A; HAG11-0243]

Notice of Intent To Prepare an Amendment to the 1992 Three Rivers Resource Management Plan for Land Tenure in the Skull Creek Area and Associated Environmental Assessment, Oregon

AGENCY: Bureau of Land Management, Interior.

ACTION: Notice of Intent.

SUMMARY: In compliance with the National Environmental Policy Act of 1969, as amended, and the Federal Land Policy and Management Act of 1976, as amended, the Bureau of Land Management (BLM) Burns District Office, Three Rivers Resource Area, Burns, Oregon, intends to prepare an Environmental Assessment (EA) which will amend the 1992 Three Rivers Resource Management Plan (RMP), and by this notice is announcing the beginning of the scoping process to solicit public comments and identify issues.

DATES: This notice initiates the public scoping process for the EA and Land Tenure Amendment to the Three Rivers RMP. Comments on issues may be submitted in writing until August 22, 2011. The date(s) and location(s) of any scoping meeting(s) will be announced at least 15 days in advance through local news media, mailings to interested individuals, and on the BLM Burns Web site at: http://www.blm.gov/or/districts/burns/index.php.

In order to be included in the Draft EA, all comments must be received prior to the close of the 30-day scoping period or 15 days after the last public meeting, whichever is later. We will provide additional opportunities for public participation upon publication of the EA.

ADDRESSES: You may submit comments on issues and planning criteria related to the Amendment to the Three Rivers Resource Management Plan for the Skull Creek Area by any of the following methods:

• E-mail: tlmclain@blm.gov.

• Fax: 541-573-4411.

• Mail: Bureau of Land Management, Burns District Office, 28910 Hwy 20 W, Hines, OR 97738.

Documents pertinent to this proposal may be examined at the BLM Burns District Office.

FOR FURTHER INFORMATION CONTACT: For further information and/or to have your name added to our mailing list, contact Tara McLain, Realty Specialist, telephone 541-573-4462; address: BLM Burns District Office, 28910 Hwy 20 W, Hines, OR 97738, phone: 541-573-4462; e-mail: tlmclain@blm.gov. Persons who use a Telecommunications Device for the Deaf may call the Federal Information Relay Service (FIRS) at 1-800-877-8339 to contact the above individual during normal business hours. The FIRS is available 24 hours a day, 7 days a week, to leave a message or question with the above individual. You will receive a reply during normal business hours.

SUPPLEMENTARY INFORMATION: This plan amendment and associated EA will address a proposed land disposal in the Skull Creek Area. The purpose of this disposal is for the sale of the 5-acre parcel to the current lessees to resolve ownership issues. The project area encompasses 5 acres of public land. The legal description for the land specifically identified for disposal is: W.M., T. 20 S., R. 29 E., section 34, E½SE¼SE¼SW¼.

The 5 acres of public land proposed for disposal are currently authorized for private use under a lifetime lease. A cabin exists on the parcel as part of a long-term unintentional trespass. This parcel is essentially cut off from public use due to private land holdings and the general topography of the area. The environmental analysis will address other resource issues as necessary.

The purpose of the public scoping process is to determine relevant issues that will influence the scope of the environmental analysis, including alternatives, and guide the process for developing the EA. At present, the BLM has identified the following issues: Lands and realty management and social and economic values. Native American tribal consultations will be conducted in accordance with policy, and tribal concerns will be given due consideration, including impacts on Indian trust assets. Federal, State, and local agencies, along with other stakeholders that may be interested or affected by the BLM's decision on this project are invited to participate in the scoping process and, if eligible, may request or be requested by the BLM to participate as a cooperating agency. The BLM will use an interdisciplinary approach to develop the plan in order to consider the variety of resource issues and concerns identified. Specialists with expertise in the following disciplines will be involved in the planning process: Rangeland management, minerals and geology, forestry, outdoor recreation, archaeology, paleontology, wildlife and fisheries, lands and realty, hydrology, soils, sociology and economics. Before including your address, phone number, email address, or other personal identifying information in your comment, you should be aware that your entire comment—including your personal identifying information—may be made publicly available at any time. While you can ask us in your comment to withhold your personal identifying information from public review, we cannot guarantee that we will be able to do so.

Authority: 40 CFR 1501.7, 40 CFR 1508.22, 43 CFR 1610.2.

Kenny McDaniel,
BLM Burns District Manager.

[FR Doc. 2011-18330 Filed 7-20-11; 8:45 am]

BILLING CODE 4310-33-P